DEPARTMENT OF ENERGY

Federal Energy Regulatory Commission

[Docket No. AD20-9-000]

Hybrid Resources; Notice Inviting Comments

On January 19, 2021, the Federal Energy Regulatory Commission (Commission) directed each Regional Transmission Organization and Independent System Operator (RTO/ISO) to submit informational reports by July 19, 2021 regarding hybrid resource issues, with public comments due 30 days thereafter (August 18, 2021).¹ Concurrently with the issuance of this notice, the Commission is issuing a staff white paper on Hybrid Resources. The white paper discusses the Hybrid Resources technical conference held by the Commission in July 2020 in this proceeding, as well as the information learned in post-technical conference comments.² Pursuant to this notice, all interested persons are invited to submit comments on the white paper, including information pertaining to non-RTO/ISO regions. We encourage commenters to jointly respond to both the white paper and RTO/ISO informational reports where applicable to avoid duplicate comments. Comments on both the RTO/ISO informational reports and the white paper are due August 18, 2021, 30 days after the RTO/ISO hybrid resource informational reports are filed.

¹ Hybrid Resources, 174 FERC ¶ 61,034 (2021).

² See Hybrid Resources, Notice Inviting Post-Technical Conference Comments, Docket No. AD20-9-000 (Aug. 10, 2020).

For more information about this Notice, please contact:

Kaitlin Johnson (Technical Information), Office of Energy Policy and Innovation, Federal Energy Regulatory Commission, 888 First Street NE, Washington, DC 20426, (202) 502-8542, Kaitlin.Johnson@ferc.gov.

Meghan O'Brien (Legal Information), Office of the General Counsel, Federal Energy Regulatory Commission, 888 First Street NE, Washington, DC 20426, (202) 502-6137, Meghan.O'brien@ferc.gov.

Dated: May 26, 2021.
Kimberly D. Bose,
Secretary.

[FR Doc. 2021-11556 Filed 6-1-21; 8:45 am]

BILLING CODE 6717-01-P